DEPARTMENT OF ENERGY

Office of Energy Efficiency and Renewable Energy

Energy Efficiency Program for Consumer Products and Commercial and Industrial Equipment: Information Collection Extension

AGENCY: Office of Energy Efficiency and Renewable Energy, Department of Energy.

ACTION: Notice.

SUMMARY: The U.S. Department of Energy (DOE) announces receipt of the approval of the Office of Management and Budget (OMB) to extend until November 30, 2017, DOE's information collection under control number 1910-1400 pursuant to the requirements of the Paperwork Reduction Act of 1995.

DATES: Information Collection under OMB control number 1910-1400 has been extended until November 20, 2017.

FOR FURTHER INFORMATION CONTACT: Ms. Ashley Armstrong, U.S. Department of Energy, Office of Energy Efficiency and Renewable Energy, Building Technologies, EE-5B, 1000 Independence Avenue SW., Washington, DC 20585-0121. Telephone: (202) 586-6590. Email: Ashley.Armstrong@ee.doe.gov.

SUPPLEMENTARY INFORMATION: Title III, Part B of the Energy Policy and Conservation Act of 1975 (“EPCA” or “the Act”), Public Law 94-163 (42 U.S.C. 6291-6309, as codified) sets forth a variety of provisions designed to improve energy efficiency and established the Energy Conservation Program for Consumer Products Other Than Automobiles. The National Energy Conservation Policy Act (NECPA), Public Law 95-619, amended EPCA to add Part C of Title III, which established an energy conservation program for certain industrial equipment. (42 U.S.C. 6311-6317) ¹

¹ For editorial reasons, Parts B (consumer products) and C (commercial equipment) of Title III of EPCA were re-designated as parts A and A-1, respectively, in the United States Code.

Under EPCA, energy conservation programs generally consist of four parts: (1) Testing; (2) labeling; (3) establishing Federal energy conservation standards; and (4) certification and enforcement procedures. The testing requirements consist of test procedures that manufacturers of covered products and equipment must use as the basis for certifying to DOE that their products and equipment comply with the applicable energy conservation standards adopted pursuant to EPCA and for making other representations about the efficiency of those products. (42 U.S.C. 6293(c); 42 U.S.C. 6295(s); 42 U.S.C. 6314) Similarly, DOE must use these test requirements to determine whether the products comply with any relevant standards promulgated under EPCA. (42 U.S.C. 6295(s))

DOE satisfied its requirements under the Paperwork Reduction Act of 1995 with respect to its information collection attendant to effective implementation of its Energy Conservation Program under control number 1910-1400. The information collection under control number 1910-1400 includes reports and data created in support of DOE's Appliance Standards Program. Specifically, the extension of information collection applies to the following aspects of the appliance standards program: (1) Manufacturer submission of certification and compliance reports for covered basic models subject to an applicable energy conservation standard; (2) records relating to the certification requirements set forth in 10 CFR 429 and 431, including test data and associated calculations underlying certified ratings of covered products and equipment submitted on the certification and compliance reports for each covered basic model distributed in commerce in the US; and (3) records related to applications for a test procedure waiver submitted by a manufacturer pursuant to 10 CFR 430.27 and 431.401 and related to one or more basic models that manufacturer believes cannot be tested pursuant to the applicable DOE test procedure. This collection includes all covered products and equipment subject to DOE's regulatory requirements described in 10 CFR parts 429, 430, and 431. The annual estimated number of burden hours under this extension is 30 hours per company.

Covered products and equipment generally include: (1) Refrigerators, refrigerator-freezers and freezers; (2) Room air conditioners; (3) Central air conditioners and heat pumps, including SDHV and Space-Constrained; (4) Residential water heaters; (5) Residential furnaces, including boilers; (6) Dishwashers; (7) Residential clothes washers; (8) Residential clothes dryers; (9) Direct heating equipment; (10) Conventional cooking tops, conventional ovens, microwave ovens; (11) Pool heaters; (12) Fluorescent lamp ballasts; (13) General service fluorescent lamps, general service incandescent lamps, and incandescent reflector lamps; (14) Faucets; (15) Showerheads; (16) Water closets; (17) Urinals; (18) Ceiling fans; (19) Ceiling fan light kits; (20) Torchieres; (21) Compact fluorescent lamps; (22) Dehumidifiers; (23) Class A external power supplies; (24) Non-class A external power supplies; (25) Battery chargers; (26) Candelabra base incandescent lamps and intermediate base incandescent lamps; (27) Electric motors; (28) Small electric motors; (29) Commercial refrigerators, freezers, and refrigerator-freezers; (30) Commercial air conditioners and heat pumps (air-cooled, water-cooled, and water-sourced); (31) Packaged terminal air conditioners and heat pumps; (32) Single package vertical units; (33) Variable refrigerant flow systems; (34) Computer room air conditioners; (35) Commercial water heating equipment; (36) Commercial warm air furnaces; (37) Commercial packaged boilers; (38) Automatic commercial ice makers; (39) Commercial clothes washers; (40) Distribution transformers; (41) Illuminated exit signs; (42) Traffic signal modules and pedestrian modules; (43) Commercial unit heaters; (44) Commercial pre-rinse spray valves; (45) Refrigerated bottled or canned beverage vending machines; (46) Walk-in coolers and walk-in freezers, including each of the components (doors/panels/refrigeration system); (47) Metal halide lamp ballasts and fixtures; (48) Furnace fans; (49) General service lamps; (50) Unfired hot water storage tanks; (51) Hot water supply boilers; (52) Television sets; (53) Pumps; (54) Fans; and (55) Compressors. DOE extended the information collection to cover similar data elements for three new product types, in the event that DOE ultimately issues a coverage determination: Miscellaneous refrigeration products (proposed); Portable air conditioners (proposed); and (58) Computing equipment (proposed). DOE also extended the information collection to allow DOE to collect additional data elements historically collected by the Federal Trade Commission (FTC) in furtherance of a single submission of energy data for both DOE and FTC through DOE's Compliance Certification Management System (CCMS).

DOE requested and received OMB approval to extend the information collection for three years. DOE published two notices in the Federal Register announcing that DOE had begun the information collection under control number 1910-1400 and seeking comment on the information collection. 78 FR 77668 (December 24, 2013) and 79 FR 11426 (February 28, 2014). In response to DOE's request, OMB approved DOE's information collection requirements covered under OMB control number 1910-1400 through November 30, 2017.

Issued in Washington, DC, on January 16, 2015.
Kathleen B. Hogan,
Deputy Assistant Secretary for Energy Efficiency, Energy Efficiency and Renewable Energy.

[FR Doc. 2015-01781 Filed 1-29-15; 8:45 am]

BILLING CODE 6450-01-P